DEPARTMENT OF COMMERCE

National Oceanic and Atmospheric Administration

[I.D. 051002C]

Pacific Fishery Management Council; Public Meeting

AGENCY: National Marine Fisheries Service (NMFS), National Oceanic and Atmospheric Administration (NOAA), Commerce.

ACTION: Notice of public meeting.

SUMMARY: The Pacific Fishery Management Council’s (Council) Marine Reserves Subcommittee of the Scientific and Statistical Committee (SSC) will hold a meeting which is open to the public.

DATES: The Marine Reserves Subcommittee of the SSC will meet Monday, June 10, 2002, at 8:30 a.m. and Tuesday, June 11, 2002, from 8:30 a.m. until business for the day is completed.

ADDRESSES: The meeting will be held at the Pacific Fishery Management Council office, 7700 NE Ambassador Place, Suite 200, Portland, OR 97220-1384.

FOR FURTHER INFORMATION CONTACT: Ms. Jennifer Gilden, Associate Staff Officer, Information Communications, Pacific Fishery Management Council, (503) 326-6352 before May 15, 2002 or (866) 806-7204 after May 15, 2002.

SUPPLEMENTARY INFORMATION: The purpose of the meeting is to review the California Environmental Quality Act analysis on the creation of marine reserves in state waters of the Channel Islands National Marine Sanctuary.

Although non-emergency issues not contained in the Marine Reserves Subcommittee of the SSC meeting agenda may come before the Subcommittee for discussion, those issues may not be the subject of formal Marine Reserves Subcommittee of the SSC action during this meeting. Subcommittee action will be restricted to those issues specifically listed in this notice and any issues arising after publication of this notice that require emergency action under section 305 (c) of the Magnuson-Stevens Act, provided the public has been notified of the Subcommittee's intent to take final action to address the emergency.

Special Accommodations

The meeting is physically accessible to people with disabilities. Requests for sign language interpretation or other auxiliary aids should be directed to Ms. Carolyn Porter at (503) 326-6352 (or (866) 806-7204 after May 15) at least 5 days prior to the meeting date.

Dated: May 13, 2002.
Richard W. Surdi,
Acting Director, Office of Sustainable Fisheries, National Marine Fisheries Service.

[FR Doc. 02-12605 Filed 5-17-02; 8:45 am]

BILLING CODE 3510-22-S